COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) to the procurement list that will be furnished by nonprofit agencies employing persons who are blind or have other severe disabilities, and delete product(s) previously furnished by such agencies.

DATES: Comments must be received on or before: March 12, 2023.

ADDRESSES: Committee for Purchase from People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Janitorial Service

Mandatory for: US Air Force, Alabama Air National Guard, HQ 117th Air Refueling Wing, Birmingham, AL

Designated Source of Supply: Alabama Goodwill Industries, Inc., Birmingham, AL

Contracting Activity: DEPT OF THE ARMY, W7MT USPFO ACTIVITY ALANG 117

Deletions

The following product(s) are proposed for deletion from the Procurement List:

Product(s)

NSN(s)—Product Name(s):

MR 1021—Holder, Pot, Deluxe, Black

Designated Source of Supply: Alphapointe, Kansas City, MO

Contracting Activity: Military Resale-Defense Commissary Agency

NSN(s)—Product Name(s):

MR 11041—Gift Bag Set, Cellophane, Christmas

Designated Source of Supply: Winston-Salem Industries for the Blind, Inc, Winston-Salem, NC

Contracting Activity: Military Resale-Defense Commissary Agency

NSN(s)—Product Name(s):

MR 876—Ergo Ice Cream Scoop

Designated Source of Supply: CINCINNATI ASSOCIATION FOR THE BLIND AND VISUALLY IMPAIRED, Cincinnati, OH

Contracting Activity: Military Resale-Defense Commissary Agency

NSN(s)—Product Name(s):

4730-01-112-3240—Cabinet, Fitting Kit

Designated Source of Supply: The Opportunity Center Easter Seal Facility—The Ala ES Soc, Inc., Anniston, AL

Contracting Activity: DLA LAND AND MARITIME, COLUMBUS, OH

NSN(s)—Product Name(s):

6645-01-456-5008—Clock, Wall, Slimline, Bronze, Custom Logo, 9 ¼ Quartz

6645-01-456-6018—Clock, Wall, Slimline, Brown, Custom Logo, 12 3/4″ Quartz

6645-01-557-3149—Clock, Wall, Self-Set, Brown, 12″ Diameter

6645-01-557-8131—Clock, Wall, Self-Set, Custom Logo, Brown, 12″ Diameter

Designated Source of Supply: Chicago Lighthouse Industries, Chicago, IL

Contracting Activity: GSA/FAS ADMIN SVCS ACQUISITION BR(2, NEW YORK, NY

NSN(s)—Product Name(s):

MR 1080—Refill, Scrub Brush with Eraser, Utility, 2PK

Designated Source of Supply: Industries for the Blind and Visually Impaired, Inc., West Allis, WI

Contracting Activity: Military Resale-Defense Commissary Agency

NSN(s)—Product Name(s):

7520-01-645-9512—Pen, Stick, Plastic Fine Point, Water Resistant Permanent Blue Ink

7520-01-645-9513—Pen, Stick, Plastic Fine Point, Water Resistant Permanent Red Ink

7520-01-645-9514—Pen, Stick, Plastic Medium Point, Water Resistant Permanent Black Ink

7520-01-645-9515—Pen, Stick, Plastic Fine Point, Water Resistant Permanent Black Ink

7520-01-645-9516—Pen, Stick, Plastic Medium Point, Water Resistant Permanent Blue Ink

7520-01-645-9517—Pen, Stick, Plastic Medium Point, Water Resistant Permanent Red Ink

Designated Source of Supply: Winston-Salem Industries for the Blind, Inc, Winston-Salem, NC

Contracting Activity: GSA/FAS ADMIN SVCS ACQUISITION BR(2, NEW YORK, N

Michael R. Jurkowski,
Acting Director, Business Operations.

[FR Doc. 2023-02877 Filed 2-9-23; 8:45 am]

BILLING CODE 6353-01-P